ENVIRONMENTAL PROTECTION AGENCY

[EPA-HQ-OPPT-2023-0311; FRL-11016-01-OCSPP]

Stakeholder Engagement Opportunity for the Safer Choice and Design for the Environment (DfE) Programs' Potential Expansion Into New Product Categories

AGENCY: Environmental Protection Agency (EPA).

ACTION: Notice.

SUMMARY: The Environmental Protection Agency (EPA) is announcing an opportunity for public input on the Safer Choice and Design for the Environment (DfE) programs' potential expansion of their certification to new product categories. Safer Choice helps consumers, businesses, and purchasers find products that perform and contain ingredients that are safer for human health and the environment. DfE is a similar program currently used by EPA for the purpose of helping consumers and commercial buyers identify antimicrobial products that meet the health and safety standards of the normal pesticide registration process required by the Federal Insecticide, Fungicide and Rodenticide Act (FIFRA) as well as other rigorous criteria required by the EPA. The Agency will hold a listening session webinar and request stakeholder comment on which new product categories Safer Choice and DfE could expand into and how the potential expansion could offer significant benefits to human health and the environment. Safer Choice and DfE certifications would likely not expand to certify materials. The availability of EPA certified products would help give consumers a choice of products that meet EPA's high standard for human and environmental health and, as part of meeting these criteria, would not contain intentionally added per- and polyfluoroalkyl substances (PFAS).

DATES:

Virtual Listening Session: August 29, 2023, 2:00-3:00 p.m. EST. To receive the webcast meeting link and audio teleconference information before the meeting, you must register by 5 p.m. EST on August 28, 2023.

Special Accommodations: To allow EPA time to process your request for special accommodations, please submit the request on or before August 22, 2023.

Written Comments: Comments must be received on or before September 11, 2023.

ADDRESSES:

Virtual Listening Session: Register online at https://abtassociates.webex.com/weblink/register/r3055e675f25be841c60ff1a37c70118d.

Special Accommodations: To request accommodation for a disability, please contact the person listed under FOR FURTHER INFORMATION CONTACT.

Written Comments: Submit your comments, identified by docket identification (ID) number EPA-HQ-OPPT-2023-0311, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Taylor Dunivin, Safer Choice Program (7409M), Office of Chemical Safety and Pollution Prevention, Environmental Protection Agency, 1200 Pennsylvania Ave. NW, Washington, DC 20460-0001; telephone number: (202) 566-0580; email address: dunivin.taylor@epa.gov.

SUPPLEMENTARY INFORMATION:

I. Executive Summary

A. Does this action apply to me?

This is directed to the public in general. This notice may be of specific interest to persons who represent relevant industries; manufacturers and distributors; colleges and universities; state, tribal, and local governments, including U.S. territories and the District of Columbia; other federal agencies; community groups; non-governmental organizations; the public; and international organizations.

B. What action is the Agency taking?

EPA is announcing a stakeholder engagement opportunity through a listening session webinar and request stakeholder comment on which new product categories Safer Choice and DfE programs could expand into and why.

During the listening session, EPA will give a presentation on the Agency's proposed plans to expand Safer Choice and DfE certification to new product categories. After the presentation, there will be time for attendees to submit questions and comments. The Agency will respond to those questions and comments that time allows during the listening session and asks for written submission of all comments after the listening session.

II. Background

A. What is the Safer Choice program?

As part of its human health and environmental mission, the Safer Choice program partners with businesses to help consumers and commercial buyers identify products whose chemical ingredients have met EPA's criteria for being “safer”, without sacrificing quality or performance criteria set by EPA. The Safer Choice program certifies products containing ingredients that have met the program's specific and rigorous human health and environmental toxicological criteria. The Safer Choice program allows companies to use its label on certified products that contain safer ingredients and perform, as determined by expert evaluation. The Safer Choice program certification represents a high level of achievement in formulating products made with safer ingredients for people and the environment. For more information on the Safer Choice program, please see: https://www.epa.gov/saferchoice.

B. What is the DfE program?

The DfE program is a similar program currently used by EPA for the purpose of helping consumers and commercial buyers identify antimicrobial products that meet the health and safety standards of the normal pesticide registration process required by FIFRA as well as meeting the DfE certification criteria (as described in the Safer Choice Standard). For more information on the DfE program, please see: https://www.epa.gov/pesticide-labels/learn-about-design-environment-dfe-certification.

C. What should I consider as I prepare my comments for EPA?

1. Submitting CBI.

Do not submit Confidential Business Information (CBI) to EPA through regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Multimedia submissions.

Multimedia submissions (audio, video, etc.) must be accompanied by a written comment. The written comment is considered the official comment and should include discussion of all points you wish to make. The EPA will generally not consider comments or comment contents located outside of the primary submission (i.e., on the web, cloud, or other file sharing system).

3. Tips for preparing your comments.

When preparing and submitting your comments, see the commenting tips at https://www.epa.gov/dockets/comments.html. Please note that once submitted, comments cannot be edited or removed from the docket. The EPA may publish any comment received to its public docket.

Authority: 15 U.S.C. 2601 et seq.

Dated: July 21, 2023.
Michal Freedhoff,
Assistant Administrator, Office of Chemical Safety and Pollution Prevention.

[FR Doc. 2023-15912 Filed 7-26-23; 8:45 am]

BILLING CODE P